DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that are subject to the prohibitions under Executive Order 13959, as amended by Executive Order of June 3, 2021, “Addressing the Threat from Securities Investments That Finance Certain Companies of the People's Republic of China” (“E.O. 13959” or the “Order”), and have been placed on OFAC's Non-SDN Chinese Military-Industrial Complex Companies List (NS-CMIC List). Any purchase or sale of any publicly traded securities, or any publicly traded securities that are derivative of such securities or are designed to provide investment exposure to such securities, of any of these persons, by any United States person in violation of the Order is prohibited.

DATES: See SUPPLEMENTARY INFORMATION section for applicable date(s).

FOR FURTHER INFORMATION CONTACT: OFAC: Bradley T. Smith, Acting Director, tel.: 202-622-2480; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The NS-CMIC List and additional information concerning OFAC sanctions programs are available on OFAC's website (www.treasury.gov/ofac).

Notice of OFAC Actions

On June 3, 2021, the President determined that the persons listed in the Annex to E.O. 13959, as amended, are subject to the prohibitions set forth in E.O. 13959, as amended. Accordingly, OFAC is placing the following persons on its NS-CMIC List.

Entities

1. AERO ENGINE CORPORATION OF CHINA (a.k.a. AERO ENGINE CORP OF CHINA; a.k.a. CHINA AVIATION ENGINE GROUP CO., LTD; a.k.a. “AECC”), 5 Landianchang South Road Haidian District, Beijing 100097, China; Target Type State-Owned Enterprise; Effective Date (CMIC) 02 Aug 2021; Purchase/Sales For Divestment Date (CMIC) 03 Jun 2022; Listing Date (CMIC) 03 Jun 2021; Unified Social Credit Code (USCC) 91110000MA005UCQ5P (China) [CMIC-EO].

Identified pursuant to section 1(a)(i) of E.O. 13959, as amended, for operating or having operated in the defense and related materiel sector of the economy of the PE.O.ple's Republic of China (PRC).

2. AEROSPACE CH UAV CO., LTD (f.k.a. ZHEJIANG NANYANG TECHNOLOGY COMPANY LIMITED), Development Zone, 388, Kai Fa Avenue, Taizhou 318000, China; Equity Ticker 002389 CN; Issuer Name Aerospace CH UAV Co Ltd; ISIN CNE100000N20; Target Type Public Company; Effective Date (CMIC) 02 Aug 2021; Purchase/Sales For Divestment Date (CMIC) 03 Jun 2022; Listing Date (CMIC) 03 Jun 2021; Unified Social Credit Code (USCC) 91330000734507783B (China) [CMIC-EO].

Identified pursuant to section 1(a)(i) of E.O. 13959, as amended, for operating or having operated in the defense and related materiel sector of the economy of the PRC.

3. AEROSPACE COMMUNICATIONS HOLDINGS GROUP COMPANY LIMITED (a.k.a. AEROCOM; a.k.a. AEROSPACE COMMUNICATIONS HOLDINGS CO., LTD.; f.k.a. AEROSPACE COMMUNICATIONS HOLDINGS COMPANY LIMITED), Block 1, Aerospace Communications Mansion, 138, Jiefang Road, Hangzhou 310009, China; Equity Ticker 600677 CN; Issuer Name Aerospace Communications Holdings Co., Ltd.; ISIN CNE000000BS6; Target Type Public Company; Effective Date (CMIC) 02 Aug 2021; Purchase/Sales For Divestment Date (CMIC) 03 Jun 2022; Listing Date (CMIC) 03 Jun 2021; Unified Social Credit Code (USCC) 913300001429112055 (China) [CMIC-EO].

Identified pursuant to section 1(a)(i) of E.O. 13959, as amended, for operating or having operated in the defense and related materiel sector of the economy of the PRC.

4. AEROSUN CORPORATION (a.k.a. AEROSUN; a.k.a. AEROSUN CORP.), Jiangning Economic Zone, 188, Tianyuan Zhong Road, Nanjing 211100, China; Equity Ticker 600501 CN; Issuer Name Aerosun Corporation; ISIN CNE000001857; Target Type Public Company; Effective Date (CMIC) 02 Aug 2021; Purchase/Sales For Divestment Date (CMIC) 03 Jun 2022; Listing Date (CMIC) 03 Jun 2021; Unified Social Credit Code (USCC) 91320000714091899R (China) [CMIC-EO].

Identified pursuant to section 1(a)(i) of E.O. 13959, as amended, for operating or having operated in the defense and related materiel sector of the economy of the PRC.

5. ANHUI GREATWALL MILITARY INDUSTRY COMPANY LIMITED (a.k.a. ANHUI GREAT WALL MILITARY INDUSTRY CO., LTD; a.k.a. ANHUI GREATWALL MILITARY INDUSTRY CO., LTD.; a.k.a. GREATWALL MILITARY; a.k.a. GREATWALL MILITARY INDUSTRY), No. 99 Taoyuan Road, Economic Development Zone, Hefei, China; Economic And Technological Development Zone, 99 Hezhang Road, Hefei 230001, China; Equity Ticker 601606 CN; Issuer Name Anhui Greatwall Military Industry Co., Ltd; ISIN CNE1000036L1; Target Type Public Company; Effective Date (CMIC) 02 Aug 2021; Purchase/Sales For Divestment Date (CMIC) 03 Jun 2022; Listing Date (CMIC) 03 Jun 2021; Unified Social Credit Code (USCC) 9134000070503581XA (China) [CMIC-EO].

Identified pursuant to section 1(a)(i) of E.O. 13959, as amended, for operating or having operated in the defense and related materiel sector of the economy of the PRC.

6. AVIATION INDUSTRY CORPORATION OF CHINA, LTD. (a.k.a. AVIATION INDUSTRY CORP OF CHINA; a.k.a. AVIATION INDUSTRY OF CHINA; a.k.a. “AVIC”), Building 19 Compound A5 Shuguang Xili Chaoyang District, Beijing 100028, China; Issuer Name Aviation Industry Corporation of China, Ltd; ISIN CND10001WLS0; alt. ISIN CND10002HNP1; alt. ISIN CND10002DPC3; Target Type State-Owned Enterprise; Effective Date (CMIC) 02 Aug 2021; Purchase/Sales For Divestment Date (CMIC) 03 Jun 2022; Listing Date (CMIC) 03 Jun 2021; Unified Social Credit Code (USCC) 91110000710935732K (China) [CMIC-EO].

Identified pursuant to section 1(a)(i) of E.O. 13959, as amended, for operating or having operated in the defense and related materiel sector of the economy of the PRC.

7. AVIC AVIATION HIGH-TECHNOLOGY COMPANY LIMITED (a.k.a. AVIC AVIATION HIGH-TECHNOLOGY CO., LTD.; a.k.a. AVIC HI-TECH; f.k.a. TONTEC TECHNOLOGY INVESTMENT GROUP COMPANY LIMITED), 1, Yonghe Road, Gangzha District, Nantong 226011, China; Equity Ticker 600862 CN; Issuer Name Tonmac International Co., Ltd.; ISIN CNE000000GZ0; Effective Date (CMIC) 02 Aug 2021; Purchase/Sales For Divestment Date (CMIC) 03 Jun 2022; Listing Date (CMIC) 03 Jun 2021; Unified Social Credit Code (USCC) 91320600138299578A (China) [CMIC-EO].

Identified pursuant to section 1(a)(i) of E.O. 13959, as amended, for operating or having operated in the defense and related materiel sector of the economy of the PRC.

8. AVIC HEAVY MACHINERY COMPANY LIMITED (a.k.a. AVIC HEAVY MACHINERY CO., LTD.; f.k.a. GUIZHOU LIYUAN HYDRAULIC CO., LTD.; f.k.a. GUIZHOU LIYUAN HYDRAULIC COMPONENTS CO., LTD.), No. 501, Beiya Road, Wudang District, Guiyang, Guizhou, China; Equity Ticker 600765 CN; Issuer Name Guizhou Liyuan Hydraulic Components Co., Ltd.; ISIN CNE000000N22; Target Type Public Company; Effective Date (CMIC) 02 Aug 2021; Purchase/Sales For Divestment Date (CMIC) 03 Jun 2022; Listing Date (CMIC) 03 Jun 2021; Unified Social Credit Code (USCC) 91520000214434146R (China) [CMIC-EO].

Identified pursuant to section 1(a)(i) of E.O. 13959, as amended, for operating or having operated in the defense and related materiel sector of the economy of the PRC.

9. AVIC JONHON OPTRONIC TECHNOLOGY CO., LTD. (a.k.a. JONHON), No. 10, Zhoushan Rd., Luoyang Area, Pilot Free Trade Zone, Luoyang, Henan, China; Equity Ticker 002179 CN; Issuer Name AVIC Jonhon Optronic Technology Co., Ltd.; ISIN CND10003VVT5; alt. ISIN CNE1000007T5; Target Type Public Company; Effective Date (CMIC) 02 Aug 2021; Purchase/Sales For Divestment Date (CMIC) 03 Jun 2022; Listing Date (CMIC) 03 Jun 2021; Unified Social Credit Code (USCC) 914100007457748527 (China) [CMIC-EO].

Identified pursuant to section 1(a)(i) of E.O. 13959, as amended, for operating or having operated in the defense and related materiel sector of the economy of the PRC.

10. AVIC SHENYANG AIRCRAFT COMPANY LIMITED (f.k.a. DONGAN HEIBAO CO., LTD.; a.k.a. SHENYANG AIRCRAFT CO. LTD.), 1, Lingbei Street, Huanggu District, Shenyang 110850, China; Equity Ticker 600760 CN; Issuer Name Dongan Heibao Co. Ltd.; ISIN CNE000000MH6; Target Type Public Company; Effective Date (CMIC) 02 Aug 2021; Purchase/Sales For Divestment Date (CMIC) 03 Jun 2022; Listing Date (CMIC) 03 Jun 2021; Unified Social Credit Code (USCC) 9137000016309489X2 (China) [CMIC-EO].

Identified pursuant to section 1(a)(i) of E.O. 13959, as amended, for operating or having operated in the defense and related materiel sector of the economy of the PRC.

11. AVIC XI'AN AIRCRAFT INDUSTRY GROUP COMPANY LTD. (a.k.a. AVIC AIRCRAFT CO., LTD.; a.k.a. AVIC XIAN AIRCRAFT INDUSTRY GROUP CO LTD; a.k.a. XI'AN AIRCRAFT INDUSTRIAL CORP.; a.k.a. XI'AN AIRCRAFT INDUSTRY GROUP CO LTD), No. 1, Xifei Avenue, Yanliang District, Xi'an, Shaanxi, China; Equity Ticker 000768 CN; Issuer Name AVIC Aircraft Co., Ltd.; ISIN CNE000000RF9; Target Type Public Company; Effective Date (CMIC) 02 Aug 2021; Purchase/Sales For Divestment Date (CMIC) 03 Jun 2022; Listing Date (CMIC) 03 Jun 2021; Unified Social Credit Code (USCC) 916100002942059830 (China) [CMIC-EO].

Identified pursuant to section 1(a)(i) of E.O. 13959, as amended, for operating or having operated in the defense and related materiel sector of the economy of the PRC.

12. CHANGSHA JINGJIA MICROELECTRONICS COMPANY LIMITED (a.k.a. CHANGSHA JINGJIA MICROELECTRONICS CO., LTD; a.k.a. JINGJIA MICRO), No.1, Meixihu Road, Yuelu District, Changsha 410205, China; Equity Ticker 300474 CN; Issuer Name Changsha Jingjia Microelectronics Co., Ltd.; alt. Issuer Name Changsha Jingjia Microelectronics Company Limited; ISIN CNE100002664; Target Type Public Company; Effective Date (CMIC) 02 Aug 2021; Purchase/Sales For Divestment Date (CMIC) 03 Jun 2022; Listing Date (CMIC) 03 Jun 2021; Unified Social Credit Code (USCC) 914301007853917172 (China) [CMIC-EO].

Identified pursuant to section 1(a)(i) of E.O. 13959, as amended, for operating or having operated in the defense and related materiel sector of the economy of the PRC.

13. CHINA ACADEMY OF LAUNCH VEHICLE TECHNOLOGY (a.k.a. “CALT”), 1 Nandahongmen Road Fengtai District, Beijing 100076, China; No. 1, South Dahongmen Road, Fengtai District, Beijing 100076, China; Target Type State-Owned Enterprise; Effective Date (CMIC) 02 Aug 2021; Purchase/Sales For Divestment Date (CMIC) 03 Jun 2022; Listing Date (CMIC) 03 Jun 2021; Business Registration Number 100000108000042 (China) [CMIC-EO].

Identified pursuant to section 1(a)(i) of E.O. 13959, as amended, for operating or having operated in the defense and related materiel sector of the economy of the PRC.

14. CHINA AEROSPACE SCIENCE AND INDUSTRY CORPORATION LIMITED (a.k.a. CASIC; a.k.a. CHINA AEROSPACE SCIENCE AND INDUSTRY CORPORATION), No. 8, Fucheng Road, Haidian District, Beijing 100089, China; Issuer Name China Aerospace Science and Industry Corporation Limited; ISIN CND1000142N4; Target Type State-Owned Enterprise; Effective Date (CMIC) 02 Aug 2021; Purchase/Sales For Divestment Date (CMIC) 03 Jun 2022; Listing Date (CMIC) 03 Jun 2021; Unified Social Credit Code (USCC) 91110000710925243K (China) [CMIC-EO].

Identified pursuant to section 1(a)(i) of E.O. 13959, as amended, for operating or having operated in the defense and related materiel sector of the economy of the PRC.

15. CHINA AEROSPACE SCIENCE AND TECHNOLOGY CORPORATION (a.k.a. “CASC”), No. 8, Fucheng Road, Haidian District, Beijing 100048, China; Issuer Name China Aerospace Science and Technology Corporation; ISIN CND1000090Q8; alt. ISIN CND100006HP7; Target Type State-Owned Enterprise; Effective Date (CMIC) 02 Aug 2021; Purchase/Sales For Divestment Date (CMIC) 03 Jun 2022; Listing Date (CMIC) 03 Jun 2021; Unified Social Credit Code (USCC) 91110000100014071Q (China) [CMIC-EO].

Identified pursuant to section 1(a)(i) of E.O. 13959, as amended, for operating or having operated in the defense and related materiel sector of the economy of the PRC.

16. CHINA AEROSPACE TIMES ELECTRONICS CO., LTD (f.k.a. LONG MARCH LAUNCH VEHICLE TECHNOLOGY COMPANY LIMITED; a.k.a. “CATEC”), High-Technology Industrial Zone, Economic & Technological Development Zone, Wuhan 430056, China; Equity Ticker 600879 CN; Issuer Name China Aerospace Times Electronics Co., Ltd; ISIN CNE000000J93; alt. ISIN CND10003B821; alt. ISIN CND100034J27; alt. ISIN CND100037514; alt. ISIN CND100032457; alt. ISIN CND10002R795; alt. ISIN CND10003D843; alt. ISIN CND100035G37; alt. ISIN CND100037S23; alt. ISIN CND10002B3Q3; alt. ISIN CND10002T6Q6; alt. ISIN CND100044B23; Target Type Public Company; Effective Date (CMIC) 02 Aug 2021; Purchase/Sales For Divestment Date (CMIC) 03 Jun 2022; Listing Date (CMIC) 03 Jun 2021; Unified Social Credit Code (USCC) 91420100177716821Q (China) [CMIC-EO].

Identified pursuant to section 1(a)(i) of E.O. 13959, as amended, for operating or having operated in the defense and related materiel sector of the economy of the PRC.

17. CHINA AVIONICS SYSTEMS COMPANY LIMITED (a.k.a. AVIC AVIONICS; f.k.a. CHINA AVIC ELECTRONICS CO., LTD; f.k.a. CHINA AVIC ELECTRONICS COMPANY LIMITED; a.k.a. CHINA AVIONICS SYSTEMS CO., LTD), Building 20, 8th-9th Floor, 5A, Shuguangxili, Beijing 100028, China; Equity Ticker 600372 CN; Issuer Name China Avionics Systems Company Limited; ISIN CNE0000018C0; alt. ISIN CND100018CL2; Target Type Public Company; Effective Date (CMIC) 02 Aug 2021; Purchase/Sales For Divestment Date (CMIC) 03 Jun 2022; Listing Date (CMIC) 03 Jun 2021; Unified Social Credit Code (USCC) 91110000705514765U (China) [CMIC-EO].

Identified pursuant to section 1(a)(i) of E.O. 13959, as amended, for operating or having operated in the defense and related materiel sector of the economy of the PRC.

18. CHINA COMMUNICATIONS CONSTRUCTION GROUP (LIMITED) (a.k.a. CHINA COMMUNICATIONS CONSTRUCTION GROUP (LTD); a.k.a. CHINA COMMUNICATIONS GROUP CO. LTD; a.k.a. CHINA COMMUNICATIONS GROUP COMPANY LIMITED; a.k.a. “CCCG”), No. 85, Deshengmen Outer Street, Xicheng District, Beijing 100088, China; Issuer Name China Communications Group Co. Ltd; alt. Issuer Name China Communications Construction Group (Ltd.); alt. Issuer Name China Communications Group Company Limited; ISIN CND10003RDS3; alt. ISIN CND100041XX5; alt. ISIN CND1000455C3; alt. ISIN CND100041XW7; alt. ISIN CND1000455B5; Target Type Private Company; Effective Date (CMIC) 02 Aug 2021; Purchase/Sales For Divestment Date (CMIC) 03 Jun 2022; Listing Date (CMIC) 03 Jun 2021; Unified Social Credit Code (USCC) 91110000710933809D (China) [CMIC-EO] (Linked To: CHINA COMMUNICATIONS CONSTRUCTION COMPANY LIMITED).

Identified pursuant to section 1(a)(ii) of E.O. 13959, as amended, for owning or controlling, directly or indirectly, CHINA COMMUNICATIONS CONSTRUCTION COMPANY LIMITED, a person who operates or has operated in the defense and related materiel sector of the economy of the PRC and who has been identified pursuant to E.O. 13959, as amended.

19. CHINA COMMUNICATIONS CONSTRUCTION COMPANY LIMITED (a.k.a. CHINA COMMUNICATIONS CONSTR CO LTD; a.k.a. CHINA COMMUNICATIONS CONSTRUCTION CO LTD; a.k.a. CHINA COMMUNICATIONS CONSTRUCTION COMPANY LTD; a.k.a. “CCCC”), 85, Deshengmen Street, Xicheng District, Beijing 100088, China; Equity Ticker 601800 CN; alt. Equity Ticker 01800 HK; alt. Equity Ticker CYY DE; Issuer Name China Communications Construction Co. Ltd; alt. Issuer Name China Communications Construction Company Limited; alt. Issuer Name China Communications Construction Company Ltd; alt. Issuer Name China Communications Constr Co Ltd; ISIN CND10000GBD8; alt. ISIN CND10001TD67; alt. ISIN CND10002GB63; alt. ISIN CND10001TD75; alt. ISIN US1689261030; alt. ISIN CND10002G6P3; alt. ISIN CND10003TZ93; alt. ISIN CND100017CS9; alt. ISIN CND10001TD59; alt. ISIN CND10002K094; alt. ISIN CND10002H1Z2; alt. ISIN CND10003R421; alt. ISIN CND10002KKV9; alt. ISIN CND10002DZZ3; alt. ISIN CND10003KT58; alt. ISIN CND100043Z00; alt. ISIN CNE1000002F5; alt. ISIN CND10002G601; alt. ISIN CND10002GB71; alt. ISIN CNE100001FN5; Target Type Public Company; Effective Date (CMIC) 02 Aug 2021; Purchase/Sales For Divestment Date (CMIC) 03 Jun 2022; Listing Date (CMIC) 03 Jun 2021; Unified Social Credit Code (USCC) 91110000710934369E (China) [CMIC-EO].

Identified pursuant to section 1(a)(i) of E.O. 13959, as amended, for operating or having operated in the defense and related materiel sector of the economy of the PRC.

20. CHINA ELECTRONICS CORPORATION (a.k.a. “CEC”), 19F, Building 1, No. 66A, Zhongguancun East Road, Haidian District, Beijing 100190, China; Issuer Name China Electronics Corporation; ISIN CND10000KG49; alt. ISIN CND10002F8S4; Target Type State-Owned Enterprise; Effective Date (CMIC) 02 Aug 2021; Purchase/Sales For Divestment Date (CMIC) 03 Jun 2022; Listing Date (CMIC) 03 Jun 2021; Legal Entity Number 300300PV91RY9GH3CT16; Unified Social Credit Code (USCC) 91110000100010249W (China) [CMIC-EO] (Linked To: NANJING PANDA ELECTRONICS COMPANY LIMITED).

Identified pursuant to section 1(a)(ii) of E.O. 13959, as amended, for owning or controlling, directly or indirectly, NANJING PANDA ELECTRONICS COMPANY LIMITED, a person who operates or has operated in the defense and related materiel sector of the economy of the PRC and who has been identified pursuant to E.O. 13959, as amended.

21. CHINA ELECTRONICS TECHNOLOGY GROUP CORPORATION (a.k.a. “CETC”), No. 27, Wanshou Road, Haidian District, Beijing 100846, China; Target Type State-Owned Enterprise; Effective Date (CMIC) 02 Aug 2021; Purchase/Sales For Divestment Date (CMIC) 03 Jun 2022; Listing Date (CMIC) 03 Jun 2021; Unified Social Credit Code (USCC) 91110000710929498G (China) [CMIC-EO].

Identified pursuant to section 1(a)(i) of E.O. 13959, as amended, for operating or having operated in the defense and related materiel sector of the economy of the PRC.

22. CHINA GENERAL NUCLEAR POWER CORPORATION (a.k.a. CHINA GENERAL NUCLEAR POWER CORP; a.k.a. “CGN”), 33F, South Building, China General Nuclear Building, No. 2002 Shennan Avenue, Futian District, Shenzhen, Guangdong, China; Issuer Name China General Nuclear Power Corporation; ISIN CND10003XXN0; alt. ISIN CND1000248C2; alt. ISIN CND10003GZY7; alt. ISIN CND1000363K2; Target Type Private Company; Effective Date (CMIC) 02 Aug 2021; Purchase/Sales For Divestment Date (CMIC) 03 Jun 2022; Listing Date (CMIC) 03 Jun 2021; Unified Social Credit Code (USCC) 9144030010001694XX (China) [CMIC-EO].

Identified pursuant to section 1(a)(i) of E.O. 13959, as amended, for operating or having operated in the defense and related materiel sector of the economy of the PRC.

23. CHINA MARINE INFORMATION ELECTRONICS COMPANY LIMITED (f.k.a. CEC CORECAST CORPORATION LIMITED; a.k.a. CHINA MARINE INFORMATION ELECTRONICS CO LTD; f.k.a. CHINA SHIPBUILDING INDUSTRY GROUP MARINE DEFENSE AND INFORMATION CONFRONTATION CO., LTD.), 4F Zhongshangxin Mansion 34 Xueyuan South Road, Beijing 100082, China; Equity Ticker 600764 CN; Issuer Name China Marine Information Electronics Company Limited; ISIN CNE000000N30; Target Type Public Company; Effective Date (CMIC) 02 Aug 2021; Purchase/Sales For Divestment Date (CMIC) 03 Jun 2022; Listing Date (CMIC) 03 Jun 2021; Unified Social Credit Code (USCC) 91110000224344507P (China) [CMIC-EO].

Identified pursuant to section 1(a)(i) of E.O. 13959, as amended, for operating or having operated in the defense and related materiel sector of the economy of the PRC.

24. CHINA MOBILE COMMUNICATIONS GROUP CO., LTD. (a.k.a. CHINA MOBILE), No. 29, Financial Street, Xicheng District, Beijing 100032, China; Target Type Private Company; Effective Date (CMIC) 02 Aug 2021; Purchase/Sales For Divestment Date (CMIC) 03 Jun 2022; Listing Date (CMIC) 03 Jun 2021; Unified Social Credit Code (USCC) 911100007109250324 (China) [CMIC-EO].

Identified pursuant to section 1(a)(i) of E.O. 13959, as amended, for operating or having operated in the defense and related materiel sector of the economy of the PRC.

25. CHINA MOBILE LIMITED (a.k.a. CHINA MOBILE LTD), 60th Floor, The Center, 99 Queens Road Central, Hong Kong, China; Equity Ticker CHL US; alt. Equity Ticker 941 HK; alt. Equity Ticker CHL RU; alt. Equity Ticker CTMA DE; alt. Equity Ticker K3PD SG; alt. Equity Ticker CTM DE; alt. Equity Ticker C1HL34 BR; alt. Equity Ticker CHL AR; Issuer Name China Mobile Limited; alt. Issuer Name China Mobile Ltd; ISIN US16941M1099; alt. ISIN HK0941009539; alt. ISIN BRC1HLBDR003; alt. ISIN ARDEUT111812; Target Type Public Company; Effective Date (CMIC) 02 Aug 2021; Purchase/Sales For Divestment Date (CMIC) 03 Jun 2022; Listing Date (CMIC) 03 Jun 2021 [CMIC-EO] (Linked To: CHINA MOBILE COMMUNICATIONS GROUP CO., LTD.).

Identified pursuant to section 1(a)(ii) of E.O. 13959, as amended, for being owned or controlled by, directly or indirectly, CHINA MOBILE COMMUNICATIONS GROUP CO., LTD., a person who operates or has operated in the defense and related materiel sector of the economy of the PRC and who has been identified pursuant to E.O. 13959, as amended.

26. CHINA NATIONAL NUCLEAR CORPORATION (a.k.a. CHINA NATIONAL NUCLEAR CORP; a.k.a. “CNNC”), No. 1, Nansan Lane, Sanlihe, Xicheng District, Beijing 100822, China; Issuer Name China National Nuclear Corporation; ISIN CND10000KRQ8; alt. ISIN CND100005B38; alt. ISIN CND10002J9T6; alt. ISIN CND100027TJ1; alt. ISIN CND10002DLF5; alt. ISIN CND10003RXC5; alt. ISIN CND10002J9V2; alt. ISIN CND100005B20; alt. ISIN CND100025BB0; alt. ISIN CND10003VCD9; alt. ISIN CND10003RXB7; alt. ISIN CND10001ZPR6; Target Type Private Company; Effective Date (CMIC) 02 Aug 2021; Purchase/Sales For Divestment Date (CMIC) 03 Jun 2022; Listing Date (CMIC) 03 Jun 2021; Unified Social Credit Code (USCC) 91110000100009563N (China) [CMIC-EO].

Identified pursuant to section 1(a)(i) of E.O. 13959, as amended, for operating or having operated in the defense and related materiel sector of the economy of the PRC.

27. CHINA NATIONAL OFFSHORE OIL CORPORATION (a.k.a. CHINA NATIONAL OFFSHORE OIL CORP.; a.k.a. CNOOC), No. 25, Chaoyangmen North Street, Dongcheng District, Beijing 100010, China; Target Type State-Owned Enterprise; Effective Date (CMIC) 02 Aug 2021; Purchase/Sales For Divestment Date (CMIC) 03 Jun 2022; Listing Date (CMIC) 03 Jun 2021; Legal Entity Number 300300AY5BEBCYDR2F31; Unified Social Credit Code (USCC) 91110000100001043E (China) [CMIC-EO].

Identified pursuant to section 1(a)(i) of E.O. 13959, as amended, for operating or having operated in the defense and related materiel sector of the economy of the PRC.

28. CHINA NORTH INDUSTRIES GROUP CORPORATION LIMITED (a.k.a. CHINA NORTH INDUSTRIES GROUP CO. LTD; a.k.a. CHINA NORTH INDUSTRIES GROUP CORPORATION; a.k.a. NORINCO; a.k.a. NORINCO GROUP; a.k.a. “CNIGC”), No. 46, Sanlihe Road, Xicheng District, Beijing 100821, China; Issuer Name China North Industries Group Corporation Limited; alt. Issuer Name China North Industries Group Co. Ltd; ISIN CND10001PXG4; alt. ISIN CND10000KPW0; alt. ISIN CND10000KSK9; alt. ISIN CND1000133M5; Target Type Private Company; Effective Date (CMIC) 02 Aug 2021; Purchase/Sales For Divestment Date (CMIC) 03 Jun 2022; Listing Date (CMIC) 03 Jun 2021; Unified Social Credit Code (USCC) 91110000710924910P (China) [CMIC-EO].

Identified pursuant to section 1(a)(i) of E.O. 13959, as amended, for operating or having operated in the defense and related materiel sector of the economy of the PRC.

29. CHINA NUCLEAR ENGINEERING CORPORATION LIMITED (a.k.a. CHINA NATIONAL ENGINEERING & CONSTRUCTION CORPORATION LIMITED; a.k.a. CHINA NUCLEAR ENGINEERING & CONSTRUCTION CORP LTD; a.k.a. CHINA NUCLEAR ENGINEERING CORPORATION LIMITED; a.k.a. “CNEC”; a.k.a. “CNECC”), No. 12 Chegongzhuang Avenue, Xicheng District, Beijing 100037, China; Equity Ticker 601611 CN; Issuer Name China Nuclear Engineering Corporation Limited; ISIN CNE100002896; alt. ISIN CND10003XJ14; Target Type Public Company; Effective Date (CMIC) 02 Aug 2021; Purchase/Sales For Divestment Date (CMIC) 03 Jun 2022; Listing Date (CMIC) 03 Jun 2021; Unified Social Credit Code (USCC) 91110000717828569P (China) [CMIC-EO].

Identified pursuant to section 1(a)(i) of E.O. 13959, as amended, for operating or having operated in the defense and related materiel sector of the economy of the PRC.

30. CHINA RAILWAY CONSTRUCTION CORPORATION LIMITED (a.k.a. “CRCC”), East Yard No. 40, Fuxing Road, Haidian District, Beijing 100855, China; Equity Ticker 601186 CN; alt. Equity Ticker 1186 HK; Issuer Name China Railway Construction Corporation Limited; ISIN CNE1000009T1; Target Type Public Company; Effective Date (CMIC) 02 Aug 2021; Purchase/Sales For Divestment Date (CMIC) 03 Jun 2022; Listing Date (CMIC) 03 Jun 2021; Unified Social Credit Code (USCC) 91110000710935150D (China) [CMIC-EO].

Identified pursuant to section 1(a)(i) of E.O. 13959, as amended, for operating or having operated in the defense and related materiel sector of the economy of the PRC.

31. CHINA SATELLITE COMMUNICATIONS CO., LTD. (a.k.a. CHINA SATCOM), China Satellite Communications Tower, Building A, 21st Floor, 65, Zhichun Road, Haidian District, Beijing 100190, China; Equity Ticker 601698 CN; Issuer Name China Satellite Communications Co., Ltd.; ISIN CNE100003PX9; Target Type Public Company; Effective Date (CMIC) 02 Aug 2021; Purchase/Sales For Divestment Date (CMIC) 03 Jun 2022; Listing Date (CMIC) 03 Jun 2021; Unified Social Credit Code (USCC) 91110000710929113P (China) [CMIC-EO].

Identified pursuant to section 1(a)(i) of E.O. 13959, as amended, for operating or having operated in the defense and related materiel sector of the economy of the PRC.

32. CHINA SHIPBUILDING INDUSTRY COMPANY LIMITED (a.k.a. CHINA SHIPBUILDING INDUSTRY CO LTD; a.k.a. “CSICL”), 72 Kunminghu South Road, Haidian District, Beijing 100097, China; Equity Ticker 601989 CN; Issuer Name CHINA SHIPBUILDING INDUSTRY COMPANY LIMITED; ISIN CNE100000J75; Target Type Public Company; Effective Date (CMIC) 02 Aug 2021; Purchase/Sales For Divestment Date (CMIC) 03 Jun 2022; Listing Date (CMIC) 03 Jun 2021; Unified Social Credit Code (USCC) 91110000710935329H (China) [CMIC-EO].

Identified pursuant to section 1(a)(i) of E.O. 13959, as amended, for operating or having operated in the defense and related materiel sector of the economy of the PRC.

33. CHINA SHIPBUILDING INDUSTRY GROUP POWER COMPANY LIMITED (a.k.a. CHINA SHIPBUILDING INDUSTRY GROUP POWER; a.k.a. CHINA SHIPBUILDING INDUSTRY GROUP POWER CO LTD; a.k.a. CSIC POWER; f.k.a. FENGFAN CO., LTD.; a.k.a. “CSICP”), 72, Kunminghu South Road, Haidian District, Beijing 100097, China; Equity Ticker 600482 CN; Issuer Name China Shipbuilding Industry Group Power; ISIN CNE000001KB1; Target Type Public Company; Effective Date (CMIC) 02 Aug 2021; Purchase/Sales For Divestment Date (CMIC) 03 Jun 2022; Listing Date (CMIC) 03 Jun 2021; Unified Social Credit Code (USCC) 911306007109266097 (China) [CMIC-EO].

Identified pursuant to section 1(a)(i) of E.O. 13959, as amended, for operating or having operated in the defense and related materiel sector of the economy of the PRC.

34. CHINA SOUTH INDUSTRIES GROUP CORPORATION (a.k.a. CHINA SOUTH INDUSTRIES GROUP CO., LTD.; a.k.a. CHINA SOUTH INDUSTRIES GROUP CORPORATION; a.k.a. “CSGC”; a.k.a. “CSIGC”), No. 46, Sanlihe Road, Xicheng District, Beijing 100032, China; No. 10 Yard, Chedaogou, Haidian District, Beijing 100089, China; Issuer Name China South Industries Group Co., Ltd.; alt. Issuer Name China South Industries Group Corporation; ISIN CND10000KTG5; alt. ISIN CND10000K5V9; alt. ISIN CND10000KTF7; alt. ISIN CND10000GGC9; alt. ISIN CND10000K0B2; alt. ISIN CND10000GGD7; alt. ISIN CND10000KTD2; alt. ISIN CND10000K5W7; alt. ISIN CND10001TRP9; alt. ISIN CND10001TRQ7; Target Type Private Company; Effective Date (CMIC) 02 Aug 2021; Purchase/Sales For Divestment Date (CMIC) 03 Jun 2022; Listing Date (CMIC) 03 Jun 2021; Unified Social Credit Code (USCC) 91110000710924929L (China) [CMIC-EO].

Identified pursuant to section 1(a)(i) of E.O. 13959, as amended, for operating or having operated in the defense and related materiel sector of the economy of the PRC.

35. CHINA SPACESAT CO., LTD. (a.k.a. CHINA SPACESAT), Shenzhou Technology Mansion, 12th Floor, 31, Zhongguancun South Avenue, Beijing 100081, China; 12F Shenzhou Building, 31 Zhongguanchun South Street, Haidian District, Beijing 100081, China; Equity Ticker 600118 CN; Issuer Name China Spacesat Co., Ltd.; ISIN CNE000000SM3; Target Type Public Company; Effective Date (CMIC) 02 Aug 2021; Purchase/Sales For Divestment Date (CMIC) 03 Jun 2022; Listing Date (CMIC) 03 Jun 2021; Unified Social Credit Code (USCC) 911100001000274544 (China) [CMIC-EO].

Identified pursuant to section 1(a)(i) of E.O. 13959, as amended, for operating or having operated in the defense and related materiel sector of the economy of the PRC.

36. CHINA STATE SHIPBUILDING CORPORATION LIMITED (a.k.a. CHINA SHIPBUILDING CORPORATION; a.k.a. CHINA STATE SHIPBUILDING CORPORATION; a.k.a. CHINA STATE SHIPBUILDING CORPORATION CO. LTD; a.k.a. “CSC”; a.k.a. “CSSC”), No. 1, Pudong Avenue, Pilot Free Trade Zone, Pudong New District, Shanghai 200135, China; Issuer Name China State Shipbuilding Corporation; alt. Issuer Name China State Shipbuilding Corporation Co. Ltd; ISIN CND100005C60; alt. ISIN CND10000KTB6; alt. ISIN CND10000KT93; alt. ISIN CND100005MX3; alt. ISIN CND100005MX3; alt. ISIN CND10000LD58; alt. ISIN CND10000LLH8; Target Type Private Company; Effective Date (CMIC) 02 Aug 2021; Purchase/Sales For Divestment Date (CMIC) 03 Jun 2022; Listing Date (CMIC) 03 Jun 2021; Unified Social Credit Code (USCC) 91310000710924478P (China) [CMIC-EO].

Identified pursuant to section 1(a)(i) of E.O. 13959, as amended, for operating or having operated in the defense and related materiel sector of the economy of the PRC.

37. CHINA TELECOM CORPORATION LIMITED (a.k.a. CHINA TELECOM; a.k.a. CHINA TELECOM CO., LTD; a.k.a. CHINA TELECOM CORP LTD), 31 Jinrong Street, Xicheng District, Beijing 100033, China; Equity Ticker CHA US; alt. Equity Ticker CHA RU; alt. Equity Ticker ZCHA DE; alt. Equity Ticker CHA AR; alt. Equity Ticker K3ED SG; alt. Equity Ticker 0728 HK; alt. Equity Ticker ZCH DE; Issuer Name China Telecom Corporation Limited; alt. Issuer Name China Telecom Corp Ltd; alt. Issuer Name China Telecom Co., Ltd; alt. Issuer Name China Telecom Corporation Limited.Co.Ltd; ISIN US1694261033; alt. ISIN CNE1000002V2; alt. ISIN CND100020NC4; alt. ISIN CND1000248G3; alt. ISIN CND10003ND87; Target Type Public Company; Effective Date (CMIC) 02 Aug 2021; Purchase/Sales For Divestment Date (CMIC) 03 Jun 2022; Listing Date (CMIC) 03 Jun 2021; Unified Social Credit Code (USCC) 9111000071093019X7 (China) [CMIC-EO] (Linked To: CHINA TELECOMMUNICATIONS CORPORATION).

Identified pursuant to section 1(a)(ii) of E.O. 13959, as amended, for being owned or controlled by, directly or indirectly, CHINA TELECOMMUNICATIONS CORPORATION, a person who operates or has operated in the defense and related materiel sector of the economy of the PRC and who has been identified pursuant to E.O. 13959, as amended.

38. CHINA TELECOMMUNICATIONS CORPORATION (a.k.a. CHINA TELECOM; a.k.a. CHINA TELECOM GROUP CO., LTD.), 31 Jinrong Street, Xicheng District, Beijing 100033, China; Target Type Private Company; Effective Date (CMIC) 02 Aug 2021; Purchase/Sales For Divestment Date (CMIC) 03 Jun 2022; Listing Date (CMIC) 03 Jun 2021; Unified Social Credit Code (USCC) 91110000100017707H (China) [CMIC-EO].

Identified pursuant to section 1(a)(i) of E.O. 13959, as amended, for operating or having operated in the defense and related materiel sector of the economy of the PRC.

39. CHINA UNICOM (HONG KONG) LIMITED (f.k.a. CHINA UNICOM LIMITED), 75th Floor, The Center, 99 Queen's Road Central, Hong Kong, China; Equity Ticker CHU US; alt. Equity Ticker 762 HK; alt. Equity Ticker XCIA DE; alt. Equity Ticker K3ID SG; alt. Equity Ticker XCI DE; Issuer Name China Unicom (Hong Kong) Limited; ISIN US16945R1041; alt. ISIN HK0000049939; Target Type Public Company; Effective Date (CMIC) 02 Aug 2021; Purchase/Sales For Divestment Date (CMIC) 03 Jun 2022; Listing Date (CMIC) 03 Jun 2021 [CMIC-EO] (Linked To: CHINA UNITED NETWORK COMMUNICATIONS GROUP CO., LTD.).

Identified pursuant to section 1(a)(ii) of E.O. 13959, as amended, for being owned or controlled by, directly or indirectly, CHINA UNITED NETWORK COMMUNICATIONS GROUP CO., LTD., a person who operates or has operated in the defense and related materiel sector of the economy of the PRC and who has been identified pursuant to E.O. 13959, as amended.

40. CHINA UNITED NETWORK COMMUNICATIONS GROUP CO., LTD. (a.k.a. CHINA UNICOM; a.k.a. CHINA UNITED NETWORK COMMUNICATIONS GROUP COMPANY LIMITED; f.k.a. CHINA UNITED TELECOMMUNICATIONS CORPORATION), No. 21, Financial Street, Xicheng District, Beijing 100033, China; Target Type Private Company; Effective Date (CMIC) 02 Aug 2021; Purchase/Sales For Divestment Date (CMIC) 03 Jun 2022; Listing Date (CMIC) 03 Jun 2021; Unified Social Credit Code (USCC) 91110000MA001HYK9X (China) [CMIC-EO].

Identified pursuant to section 1(a)(i) of E.O. 13959, as amended, for operating or having operated in the defense and related materiel sector of the economy of the PRC.

41. CNOOC LIMITED (a.k.a. CNOOC LTD), Bank of China Tower, 65th Floor, 1, Garden Road, Hong Kong, China; Equity Ticker 00083 HK; alt. Equity Ticker CNU CA; alt. Equity Ticker NC2B DE; alt. Equity Ticker CEO US; Issuer Name CNOOC Limited; alt. Issuer Name CNOOC Ltd; ISIN HK0883013259; alt. ISIN US1261321095; alt. ISIN HK2998013240; alt. ISIN BRC1EODR004; alt. ISIN HK0883013259; Target Type Public Company; Effective Date (CMIC) 02 Aug 2021; Purchase/Sales For Divestment Date (CMIC) 03 Jun 2022; Listing Date (CMIC) 03 Jun 2021; Company Number 0685974 (Hong Kong); Legal Entity Number 549300XIVJCBIGMRUD48 [CMIC-EO] (Linked To: CHINA NATIONAL OFFSHORE OIL CORPORATION).

Identified pursuant to section 1(a)(ii) of E.O. 13959, as amended, for being owned or controlled by, directly or indirectly, CHINA NATIONAL OFFSHORE OIL CORPORATION, a person who operates or has operated in the defense and related materiel sector of the economy of the PRC and who has been identified pursuant to E.O. 13959, as amended.

42. COSTAR GROUP CO., LTD. (a.k.a. COSTAR GROUP CO; f.k.a. LIDA OPTICAL & ELECTRONIC CO., LTD.), 508, Gongye Road, Nanyang 473003, China; Equity Ticker 002189 CN; Issuer Name Costar Group Co; ISIN CNE100000882; Target Type Public Company; Effective Date (CMIC) 02 Aug 2021; Purchase/Sales For Divestment Date (CMIC) 03 Jun 2022; Listing Date (CMIC) 03 Jun 2021; Unified Social Credit Code (USCC) 91410000615301803D (China) [CMIC-EO].

Identified pursuant to section 1(a)(i) of E.O. 13959, as amended, for operating or having operated in the defense and related materiel sector of the economy of the PRC.

43. CSSC OFFSHORE & MARINE ENGINEERING (GROUP) COMPANY LIMITED (a.k.a. COMEC; f.k.a. GUANGZHOU SHIPYARD INTERNATIONAL COMPANY LIMITED), 40, South Fang Cun Road, Liwan District, Guangzhou 510382, China; Equity Ticker 00317 HK; alt. Equity Ticker 600685 CN; Issuer Name CSSC Offshore & Marine Engineering (Group) Company Limited; ISIN CNE100000395; Target Type Public Company; Effective Date (CMIC) 02 Aug 2021; Purchase/Sales For Divestment Date (CMIC) 03 Jun 2022; Listing Date (CMIC) 03 Jun 2021; Unified Social Credit Code (USCC) 91440101190499390U (China) [CMIC-EO].

Identified pursuant to section 1(a)(i) of E.O. 13959, as amended, for operating or having operated in the defense and related materiel sector of the economy of the PRC.

44. FUJIAN TORCH ELECTRON TECHNOLOGY CO., LTD. (a.k.a. TORCH ELECTRON), Hi-Tech Industrial Park, Jiangnan Park, 4, Zihua Road, Licheng district, Quanzhou 362000, China; Equity Ticker 603678 CN; Issuer Name Fujian Torch Electron Technology Co., Ltd; ISIN CNE100001TY3; Target Type Public Company; Effective Date (CMIC) 02 Aug 2021; Purchase/Sales For Divestment Date (CMIC) 03 Jun 2022; Listing Date (CMIC) 03 Jun 2021; Unified Social Credit Code (USCC) 913500001562023628 (China) [CMIC-EO].

Identified pursuant to section 1(a)(i) of E.O. 13959, as amended, for operating or having operated in the defense and related materiel sector of the economy of the PRC.

45. GUIZHOU SPACE APPLIANCE CO., LTD (a.k.a. “SACO”), 7, Honghe Road, Xiaohe District, Guiyang 550009, China; Equity Ticker 002025 CN; Issuer Name Guizhou Space Appliance Co., Ltd; ISIN CNE000001KG0; alt. ISIN CN000A0B7NS3; Target Type Public Company; Effective Date (CMIC) 02 Aug 2021; Purchase/Sales For Divestment Date (CMIC) 03 Jun 2022; Listing Date (CMIC) 03 Jun 2021; Unified Social Credit Code (USCC) 91520000730980020A (China) [CMIC-EO].

Identified pursuant to section 1(a)(i) of E.O. 13959, as amended, for operating or having operated in the defense and related materiel sector of the economy of the PRC.

46. HANGZHOU HIKVISION DIGITAL TECHNOLOGY CO., LTD. (a.k.a. HANGZHOU HIKVISION DIGITAL TECHNOLOGY; a.k.a. HIKVISION), 555, Qianmo Road, Binjiang District, Hangzhou 310051, China; Equity Ticker 002415 CN; Issuer Name Hangzhou Hikvision Digital Technology; ISIN CNE100000PM8; Target Type Public Company; Effective Date (CMIC) 02 Aug 2021; Purchase/Sales For Divestment Date (CMIC) 03 Jun 2022; Listing Date (CMIC) 03 Jun 2021; Unified Social Credit Code (USCC) 91330000733796106P (China) [CMIC-EO].

Identified pursuant to section 1(a)(i) of E.O. 13959, as amended, for operating or having operated in the surveillance technology sector of the economy of the PRC.

47. HUAWEI INVESTMENT & HOLDING CO., LTD. (a.k.a. HUAWEI INVESTMENT AND HOLDING CO., LTD.), Building 1, Area B, Bantian Huawei Base, Longgang District, Guangdong, Shenzhen, China; Issuer Name Huawei Investment & Holding Co., Ltd.; alt. Issuer Name Huawei Investment and Holding Co., Ltd.; ISIN CND10003D0F9; alt. ISIN CND100035KT2; alt. ISIN CND10002K3Y6; alt. ISIN CND10002J7T0; alt. ISIN CND1000336F8; alt. ISIN CND1000439R5; Target Type Private Company; Effective Date (CMIC) 02 Aug 2021; Purchase/Sales For Divestment Date (CMIC) 03 Jun 2022; Listing Date (CMIC) 03 Jun 2021; Unified Social Credit Code (USCC) 91440300746645251H (China) [CMIC-EO] (Linked To: HUAWEI TECHNOLOGIES CO., LTD.).

Identified pursuant to section 1(a)(ii) of E.O. 13959, as amended, for owning or controlling, directly or indirectly, HUAWEI TECHNOLOGIES CO., LTD., a person who operates or has operated in the defense and related materiel sector of the economy of the PRC, and operates or has operated in the surveillance technology sector of the economy of the PRC, and who has been identified pursuant to E.O. 13959, as amended.

48. HUAWEI TECHNOLOGIES CO., LTD. (a.k.a. HUAWEI INVESTMENT & HOLDING CO LTD), Huawei Headquarter Office Building, Bantian, Longgang District, Guangdong, Shenzhen 518129, China; Target Type Private Company; Effective Date (CMIC) 02 Aug 2021; Purchase/Sales For Divestment Date (CMIC) 03 Jun 2022; Listing Date (CMIC) 03 Jun 2021; Unified Social Credit Code (USCC) 914403001922038216 (China) [CMIC-EO].

Identified pursuant to section 1(a)(i) of E.O. 13959, as amended, for operating or having operated in the surveillance technology sector of the economy of the PRC, and for operating or having operated in the surveillance technology sector of the economy of the PRC.

49. INNER MONGOLIA FIRST MACHINERY GROUP CO., LTD. (f.k.a. BAOTOU BEIFANG CHUANGYE COMPANY LIMITED; a.k.a. FIRMACO), Minzhu Road, Qingshan District, Baotou 014032, China; Equity Ticker 600967 CN; Issuer Name Baotou Beifang Chuangye Co., Ltd.; ISIN CNE000001HP7; Target Type Public Company; Effective Date (CMIC) 02 Aug 2021; Purchase/Sales For Divestment Date (CMIC) 03 Jun 2022; Listing Date (CMIC) 03 Jun 2021; Unified Social Credit Code (USCC) 91150000720180740Y (China) [CMIC-EO].

Identified pursuant to section 1(a)(i) of E.O. 13959, as amended, for operating or having operated in the defense and related materiel sector of the economy of the PRC.

50. INSPUR GROUP CO., LTD. (a.k.a. INSPUR GROUP), No. 1036, High-Tech Inspur Road, Jinan, Shandong 250101, China; Target Type Private Company; Effective Date (CMIC) 02 Aug 2021; Purchase/Sales For Divestment Date (CMIC) 03 Jun 2022; Listing Date (CMIC) 03 Jun 2021; Unified Social Credit Code (USCC) 913700001630477270 (China) [CMIC-EO].

Identified pursuant to section 1(a)(i) of E.O. 13959, as amended, for operating or having operated in the defense and related materiel sector of the economy of the PRC.

51. JIANGXI HONGDU AVIATION INDUSTRY CO., LTD. (a.k.a. “HDAA”), P.O. Box 5001-500, Nanchang 330024, China; Xinxi Bridge Road Qingyunpu District, Nanchang 330024, China; Equity Ticker 600316 CN; Issuer Name Jiangxi Hongdu Aviation Industry Co., Ltd.; ISIN CNE0000015N3; alt. ISIN CND10001KJ52; alt. ISIN CND10001KHB9; Target Type Public Company; Effective Date (CMIC) 02 Aug 2021; Purchase/Sales For Divestment Date (CMIC) 03 Jun 2022; Listing Date (CMIC) 03 Jun 2021; Unified Social Credit Code (USCC) 91360000705515290C (China) [CMIC-EO].

Identified pursuant to section 1(a)(i) of E.O. 13959, as amended, for operating or having operated in the defense and related materiel sector of the economy of the PRC.

52. NANJING PANDA ELECTRONICS COMPANY LIMITED (a.k.a. NANJING PANDA; a.k.a. NANJING PANDA ELECTR. CO. LTD.; a.k.a. NANJING PANDA ELECTRONIC CO. LTD.), 7, Jingtian Road, Nanjing 210033, China; Equity Ticker 600775 CN; alt. Equity Ticker 00553 HK; alt. Equity Ticker NNJ DE; Issuer Name Nanjing Panda Electr. Co. Ltd.; alt. Issuer Name Nanjing Panda Electronic Co. Ltd; alt. Issuer Name Nanjing Panda Electronics Company Limited; ISIN CNE1000003T4; alt. ISIN CN0009003921; alt. ISIN CNE000000NB7; alt. ISIN CN0005815195; Target Type Public Company; Effective Date (CMIC) 02 Aug 2021; Purchase/Sales For Divestment Date (CMIC) 03 Jun 2022; Listing Date (CMIC) 03 Jun 2021; Unified Social Credit Code (USCC) 91320100134974572K (China) [CMIC-EO].

Identified pursuant to section 1(a)(i) of E.O. 13959, as amended, for operating or having operated in the defense and related materiel sector of the economy of the PRC.

53. NORTH NAVIGATION CONTROL TECHNOLOGY CO., LTD. (f.k.a. BEIJING NORTH PHENIX INTELLIGENCE TECHNOLOGY CO., LTD.; f.k.a. CHINA NORTH OPTICAL-ELECTRICAL TECHNOLOGY CO., LTD.), No. 2, Kechuang 15 Street, Economic Technology Development Zone, Beijing, China; Equity Ticker 600435 CN; Issuer Name Beijing North Phenix Intelligence Technology Co., Ltd; ISIN CNE000001F88; Target Type Public Company; Effective Date (CMIC) 02 Aug 2021; Purchase/Sales For Divestment Date (CMIC) 03 Jun 2022; Listing Date (CMIC) 03 Jun 2021; Unified Social Credit Code (USCC) 911100007226144851 (China) [CMIC-EO].

Identified pursuant to section 1(a)(i) of E.O. 13959, as amended, for operating or having operated in the defense and related materiel sector of the economy of the PRC.

54. PANDA ELECTRONICS GROUP CO., LTD. (a.k.a. PANDA ELECTRONICS GROUP LIMITED), No. 301, Zhongshan East Road, Xuanwu District, Nanjing, Jiangsu 210002, China; Target Type State-Owned Enterprise; Effective Date (CMIC) 02 Aug 2021; Purchase/Sales For Divestment Date (CMIC) 03 Jun 2022; Listing Date (CMIC) 03 Jun 2021; Unified Social Credit Code (USCC) 913201921348831521 (China) [CMIC-EO].

Identified pursuant to sections 1(a)(i) and 1(a)(ii) of E.O. 13959, as amended, for operating or having operated in the defense and related materiel sector of the economy of the PRC, and for owning or controlling, directly or indirectly, a person who operates or has operated in the defense and related materiel sector of the economy of the PRC.

55. PROVEN GLORY CAPITAL LIMITED (a.k.a. PROVEN GLORY), 263 Main Street, Road Town VG11100, Virgin Islands, British; Issuer Name Proven Glory Capital Limited; ISIN XS1809220830; alt. ISIN XS1808982398; alt. ISIN XS1808982471; alt. ISIN XS1567423501; alt. ISIN XS1567423766; alt. ISIN XS1809220913; Target Type Private Company; Effective Date (CMIC) 02 Aug 2021; Purchase/Sales For Divestment Date (CMIC) 03 Jun 2022; Listing Date (CMIC) 03 Jun 2021 [CMIC-EO] (Linked To: HUAWEI INVESTMENT & HOLDING CO., LTD.).

Identified pursuant to section 1(a)(ii) of E.O. 13959, as amended, for being owned or controlled by, directly or indirectly, HUAWEI INVESTMENT & HOLDING CO., LTD., a person who has been identified pursuant to E.O. 13959, as amended, for owning or controlling, directly or indirectly, HUAWEI TECHNOLOGIES CO., LTD., a person who operates or has operated in the defense and related materiel sector of the economy of the PRC, and operates or has operated in the surveillance technology sector of the economy of the PRC, and who has been identified pursuant to E.O. 13959, as amended.

56. PROVEN HONOUR CAPITAL LIMITED (a.k.a. PROVEN HONOUR; a.k.a. PROVEN HONOUR CAPITAL LTD), C/O Vistra Corporate Services Centre, Wickhams Cay II, Road Town VG1110, Virgin Islands, British; Issuer Name Proven Honour Capital Ltd; alt. Issuer Name Proven Honour Capital Limited; ISIN XS1233275194; alt. ISIN HK0000216777; alt. ISIN XS1401816761; alt. ISIN HK0000111952; Target Type Private Company; Effective Date (CMIC) 02 Aug 2021; Purchase/Sales For Divestment Date (CMIC) 03 Jun 2022; Listing Date (CMIC) 03 Jun 2021 [CMIC-EO] (Linked To: HUAWEI INVESTMENT & HOLDING CO., LTD.).

Identified pursuant to section 1(a)(ii) of E.O. 13959, as amended, for being owned or controlled by, directly or indirectly, HUAWEI INVESTMENT & HOLDING CO., LTD., a person who has been identified pursuant to E.O. 13959, as amended, for owning or controlling, directly or indirectly, HUAWEI TECHNOLOGIES CO., LTD., a person who operates or has operated in the defense and related materiel sector of the economy of the PRC, and operates or has operated in the surveillance technology sector of the economy of the PRC. and who has been identified pursuant to E.O. 13959, as amended.

57. SEMICONDUCTOR MANUFACTURING INTERNATIONAL CORPORATION (a.k.a. SEMICONDUCTOR MANUFACTURING INTERNATIONAL CORPORATION CO., LTD; a.k.a. SEMICONDUCTOR MANUFACTURING INTERNATIONAL CORPORATION LIMITED; a.k.a. SEMICONDUCTOR MFG INTL CORP; a.k.a. “SMIC”), 18, Zhangjiang Road, Pudong New Area, Shanghai 201203, China; Cayman Islands; Equity Ticker 688981 CN; alt. Equity Ticker 00981 HK; alt. Equity Ticker MKN1 DE; alt. Equity Ticker MKN2 DE; Issuer Name Semiconductor Manufacturing International Corporation; alt. Issuer Name Semiconductor Manufacturing International Corporation Limited; alt. Issuer Name Semiconductor Manufacturing International Corporation Co., Ltd; ISIN KYG8020E1199; alt. ISIN XS1432320429; alt. ISIN US81663N2062; alt. ISIN XS2101828452; alt. ISIN KYG8020E1017; alt. ISIN XS1730881247; alt. ISIN KYG802041031; alt. ISIN CNE1000041W8; alt. ISIN CND100022N41; Target Type Public Company; Effective Date (CMIC) 02 Aug 2021; Purchase/Sales For Divestment Date (CMIC) 03 Jun 2022; Listing Date (CMIC) 03 Jun 2021 [CMIC-EO].

Identified pursuant to section 1(a)(i) of E.O. 13959, as amended, for operating or having operated in the defense and related materiel sector of the economy of the PRC.

58. SHAANXI ZHONGTIAN ROCKET TECHNOLOGY COMPANY LIMITED (a.k.a. SHAANXI ZHONGTIAN ROCKET TECHNOLOGY CO., LTD), Xi'an, China; Equity Ticker 003009 CN; Issuer Name Shaanxi Zhongtian Rocket Technology Co., Ltd; ISIN CNE1000046W7; Target Type Public Company; Effective Date (CMIC) 02 Aug 2021; Purchase/Sales For Divestment Date (CMIC) 03 Jun 2022; Listing Date (CMIC) 03 Jun 2021; Unified Social Credit Code (USCC) 91610000741252408P (China) [CMIC-EO].

Identified pursuant to section 1(a)(i) of E.O. 13959, as amended, for operating or having operated in the defense and related materiel sector of the economy of the PRC.

59. ZHONGHANG ELECTRONIC MEASURING INSTRUMENTS COMPANY LIMITED (a.k.a. AVIC ZEMIC; a.k.a. ZEMIC; a.k.a. ZHONGHANG ELECTRONIC MEASURING INSTRUMENTS CO., LTD), High-Tech Industrial Development Zone, 166, West Avenue, Xi'an 710119, China; Equity Ticker 300114 CN; Issuer Name Zhonghang Electronic Measuring Instruments Co., Ltd; ISIN CNE100000T08; Effective Date (CMIC) 02 Aug 2021; Purchase/Sales For Divestment Date (CMIC) 03 Jun 2022; Listing Date (CMIC) 03 Jun 2021; Unified Social Credit Code (USCC) 91610000745016111K (China) [CMIC-EO].

Identified pursuant to section 1(a)(i) of E.O. 13959, as amended, for operating or having operated in the defense and related materiel sector of the economy of the PRC.

Dated: June 3, 2021.
Bradley T. Smith,
Acting Director, Office of Foreign Assets Control, U.S. Department of the Treasury.

[FR Doc. 2021-12035 Filed 6-8-21; 8:45 am]

BILLING CODE 4810-AL-P